DEPARTMENT OF THE TREASURY

Internal Revenue Service

26 CFR Part 31

[TD 9276]

RIN 1545-BD96

Flat Rate Supplemental Wage Withholding; Correction

AGENCY: Internal Revenue Service (IRS), Treasury.

ACTION: Correction to final regulations.

SUMMARY: This document contains a correction to final regulations (TD 9276), that were published in the Federal Register on Tuesday, July 25, 2006 (71 FR 142). These regulations apply to all employers and others making supplemental wage payments to employees.

DATES: This correction is effective January 1, 2007.

FOR FURTHER INFORMATION CONTACT: A. G. Kelley, (202) 622-6040 (not a toll-free number).

SUPPLEMENTARY INFORMATION:

Background

The final regulations (TD 9276) that is the subject of this correction are under sections 3401 and 3402 of the Internal Revenue Code.

Need for Correction

As published, TD 9276 contains an error that may prove to be misleading and is in need of clarification.

Correction of Publication

Accordingly, the publication of the final regulations (TD 9276), that were the subject of FR Doc. E6-11764, is corrected as follows:

On page 42051, column 2, in the preamble under the paragraph heading “Special Rules for Determining Applicability of Mandatory Flat Rate Withholding”, lines 2 and 3 from the top of the column, the language, “the final regulations and the revenue procedure provide employers with a” is corrected to read “the final regulations provide employers with a”.

Cynthia E. Grigsby,
Senior Federal Register Liaison Officer, Publications and Regulations Branch, Legal Processing Division, Associate Chief Counsel (Procedures and Administration).

[FR Doc. E6-16239 Filed 10-2-06; 8:45 am]

BILLING CODE 4830-01-P